DEPARTMENT OF LABOR

Employment and Training Administration

[TA-W-52,224]

VF Imagewear, Inc., Brownsville, Texas; Amended Certification Regarding Eligibility To Apply for Worker Adjustment Assistance

In accordance with section 223 of the Trade Act of 1974 (19 U.S.C. 2273) the Department of Labor issued a Certification of Eligibility to Apply for Worker Adjustment Assistance on July 18, 2003, applicable to workers of VF Imagewear, Inc., Brownsville, Texas. The notice will be published soon in the Federal Register.

At the request of the State agency, the Department reviewed the certification for workers of the subject firm. The workers produce men's and boys' workpants.

New findings show that there was a previous certification, TA-W-39,146, issued on May 31, 2001, for workers of VF Imagewear, Inc., Brownsville, Texas who were engaged in employment related to the production of men's and boys' workpants. That certification expired May 31, 2003. To avoid an overlap in worker group coverage, the certification is being amended to change the impact date from July 2, 2002 to June 1, 2003, for workers of the subject firm.

The amended notice applicable to TA-W-52,224 is hereby issued as follows:

All workers of VF Imagewear, Inc., Brownsville, Texas, who became totally or partially separated from employment on or after June 1, 2003, through July 18, 2005, are eligible to apply for adjustment assistance under section 223 of the Trade Act of 1974.

Signed at Washington, DC this 30th day of July, 2003.
Richard Church,
Certifying Officer, Division of Trade Adjustment Assistance.

[FR Doc. 03-20097 Filed 8-6-03; 8:45 am]

BILLING CODE 4510-30-P